DEPARTMENT OF ENERGY

[GDO Docket No. EA-464-A]

Application for Renewal of Authorization To Export Electric Energy; Boston Energy Trading and Marketing LLC

AGENCY: Grid Deployment Office, Department of Energy.

ACTION: Notice of application.

SUMMARY: Boston Energy Trading and Marketing, LLC (the Applicant or BETM) has applied for renewed authorization to transmit electric energy from the United States to Mexico pursuant to the Federal Power Act.

DATES: Comments, protests, or motions to intervene must be submitted on or before January 26, 2024.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On April 10, 2023, the authority to issue such orders was delegated to the DOE's Grid Deployment Office (GDO) by Delegation Order No. S1-DEL-S3-2023 and Redelegation Order No. S3-DEL-GD1-2023.

On December 19, 2018, DOE issued Order No. EA-464 authorizing BETM to transmit electric energy from the United States to Mexico as a power marketer. On November 14, 2023, BETM filed an application with DOE (Application or App.) for renewal of their export authority for an additional five-year term. App. at 1.

BETM is a California limited liability company that is a wholly owned subsidiary of Diamond Energy Trading and Marketing, LLC. Id. at 1-2. BETM represents that it is a power marketer authorized to sell wholesale electric energy, capacity and ancillary services outside of the Electric Reliability Council of Texas at market-based rates pursuant to authority granted by the Federal Energy Regulatory Commission (FERC) under a wholesale power sales tariff currently on file with FERC. Id. at 2. BETM states that as a power marketer, it “does not own any electric generation or transmission facilities and does not hold a franchise or service territory or native load obligation.” Id. at 4. Further, BETM represents that “none of BETM's U.S.-based affiliates or subsidiaries own any electric transmission facilities other than generating facility interconnection facilities necessary to connect individual generating facilities to the grid[,] and BETM is not affiliated with an entity that holds a franchise or service territory in the U.S.” Id. BETM represents that because it neither owns, operates nor controls an electric power supply transmission and/or distribution system, “its exports cannot have any adverse impact on the reliability, stability, or sufficiency of supply on a franchised electric supply system or the electric power supply within the U.S.” Id. at 5.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning BETM's Application should be clearly marked with GDO Docket No. EA-464-A. Additional copies are to be provided directly to BETM Contract Administrator, Boston Energy Trading and Marketing LLC, One International Place, 9th Floor, Boston, MA 02110, BETMContractAdmin@betm.com, and Catherine McCarthy, Partner, Bracewell LLP, 2001 M Street NW, Suite 900, Washington, DC 20036, cathy.mccarthy@bracewell.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on December 19, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 20, 2023.
Treena V. Garrett,
Federal Register Liaison Officer, U.S. Department of Energy.

[FR Doc. 2023-28479 Filed 12-26-23; 8:45 am]

BILLING CODE 6450-01-P